DEPARTMENT OF THE INTERIOR

Fish and Wildlife Service

[FWS-R4-ES-2010-N126; 40120-1112-0000-F5]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by July 23, 2010.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR 17. This notice is provided under section 10(c) of the Act. If you wish to comment, you may submit comments by any one of the following methods. You may mail comments to the Fish and Wildlife Service's Regional Office (see ADDRESSES section) or via electronic mail (e-mail) to: permitsR4ES@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so.

Applicant: Charles Minars, Richmond, Kentucky, TE210433.

The applicant requests authorization to remove plant parts for genetic analysis of running buffalo clover (Trifolium stoloniferum) from the Blue Grass Army Depot, Madison County, Kentucky.

Applicant: Andrew Doust, Oklahoma State University, Stillwater, Oklahoma, TE181349.

The applicant requests authorization to remove plant parts from the Spring Creek bladderpod (Lesquerella perforata) from Wilson County, Tennessee, for genetic analysis, to culture for research, and to preserve in herbarium collections.

Applicant: International Carnivorous Plant Society, Pinole, California, TE61005.

The applicant requests renewed authorization to sell from Contra Costa County, California, in interstate commerce for the purposes of enhancement or propagation, the green pitcher plant (Sarracenia oreophila), Alabama canebreak pitcher plant (Sarracenia rubra alabamensis), mountain sweet pitcher plant (Sarracenia rubra jonesii), and Godfrey's butterwort (Pinquicula ionantha).

Applicant: Archbold Biological Station, Venus, Florida, TE237540.

The applicant requests authorization to take Garrett's mint (Dicerandra christmanii) for the purpose of seed harvesting, seed propagation, seedling transplant, and habitat enhancement in Highlands County, Florida.

Applicant: Herbert Kessler, Camp Hill, Alabama, TE222938.

The applicant requests authorization to monitor the effects of management activities in Apalachicola National Forest in Liberty and Franklin Counties, Florida to Harper's beauty (Harperocallis flava).

Applicant: Missouri Botanical Garden, St. Louis, Missouri, TE210461.

The applicant requests authorization to take Guthrie's ground plum (Astragalus bibullatus) by collecting seeds from Federal lands in Wayne, Lawrence, Lewis, Scott and Fentress Counties, Tennessee, and Colbert and Lauderdale Counties, Alabama.

Applicant: Bok Tower Gardens, Lake Wales, Florida, TE237535.

The applicant requests authorization to take Garrett's mint (Diceranddra christmanii) by collecting seeds from Federal lands in Highlands County, Florida.

Applicant: University of Florida, Gainesville, Florida, TE 13939A.

The applicant requests authorization to take scrub palm (Prunus geniculata) by collecting seeds and leaves from Federal lands in Highlands County, Florida, for the purpose of genetic analysis.

Applicant: Tampa's Lowry Park Zoo, Tampa, Florida, TE067738.

The applicant requests renewed authorization to receive Key deer (Odocoileus virginianus clavium) for veterinary treatment and rehabilitation.

Applicant: Jacksonville Zoological Society, Jacksonville, Florida, TE225877.

The applicant requests renewed authorization to house for greater than 45 days, and provide care for and public education about, Key deer in Duval County, Florida.

Applicant: Aquatic Resources Management LLC, Lexington, Kentucky, TE13844A.

The applicant requests authorization to conduct presence/absence surveys in Kentucky for the following species: Indiana Bat (Myotis sodalis), gray bat (Myotis grisescens), Virginia big-eared bat (Corynorhinus townsendii virginianus), blackside dace (Phoxinus cumberlandensis), copperbelly water snake (Nerodia erythrogaster neglecta), running buffalo clover (Trifolium stoloniferum), white-haired goldenrod (Solidago albopilosa), American burying beetle (Nicrophorus americanus), Cumberland elktoe (Alasmidonta atropurpurea), fanshell (Cyprogenia stegaria), Cumberlandian combshell (Epioblasma brevidens), oyster mussel (Epioblasma capsaeformis), catspaw (Epioblasma obliquata obliquata), northern riffleshell (Epioblasma torulosa rangiana), pink mucket (Lamsilis abrupta), ring pink (Obovaria retusa), little-wing pearlymussel (Pegias fabula), orangefoot pimpleback (Plethobasus cooperianus), clubshell (Pleurobema clava), rough pigtoe (Pleurobema plenum), fat pocketbook (Potamilus capax) and Cumberland bean (Villosa trabalis).

Applicant: Terry Derting, Murray State University, Murray, Kentucky, TE13910A.

The applicant requests authorization to conduct surveys, population monitoring, and ecological studies in Kentucky and Tennessee for Indiana bat, Virginia big-eared bat (Corynorhinus townsendii virginianus), and gray bat.

Applicant: Larry Elia, Holden, West Virginia, TE14101A.

The applicant requests renewed authorization to conduct surveys, population monitoring, and ecological studies in Kentucky for Indiana bat, Virginia big-eared bat, and gray bat.

Applicant: Jeremy Jackson, Richmond, Kentucky, TE102292.

The applicant requests renewed authorization to conduct surveys, population monitoring, and ecological studies in Kentucky for Indiana bat, Virginia big-eared bat, and gray bat.

Applicant: Janet Tyburec, Tucson, Arizona, TE 210402.

The applicant requests authorization to conduct surveys and monitoring activities in Kentucky for the Indiana bat and gray bat.

Applicant: Michael LaVoie, Eastern Band of the Cherokee Indian Nation, Cherokee, North Carolina, TE237545.

The applicant requests authorization to conduct surveys, population monitoring, and ecological studies on Tribal lands in North Carolina for the Indiana bat.

Applicant: Tom Counts, Tuscumbia, Alabama, TE237548.

The applicant requests authorization to conduct surveys, population monitoring, and ecological studies in Alabama for the Indiana bat and gray bat.

Applicant: U.S. Forest Service, Double Springs, Alabama, TE100070.

The applicant requests renewed authorization to conduct surveys, population monitoring, and ecological studies on National Forest lands in Alabama for Indiana bat and gray bat.

Applicant: William Stone, Alabama A&M University, Normal, Alabama, TE224200.

The applicant requests renewed authorization to conduct surveys, population monitoring, and ecological studies in Lawrence and Winston Counties, Alabama, for Indiana bat and gray bat.

Applicant: National Park Service, Great Smoky Mountains National Park, TE148237.

The applicant requests renewed authorization to conduct surveys, population monitoring, and ecological studies in Tennessee and North Carolina for Indiana bat and gray bat.

Applicant: The Nature Conservancy, Nashville, Tennessee, TE237549.

The applicant requests renewal of authorization to conduct surveys, population monitoring, and ecological studies in Tennessee for Indiana bat and gray bat.

Applicant: Round Mountain Biological and Environmental Studies, Inc., Nicholasville, Kentucky, TE121059.

The applicant requests renewal of authorization to conduct surveys, population monitoring, and ecological studies in Kentucky and Tennessee for Indiana bat and gray bat.

Applicant: Daniel Judy, Mount Dora, Florida, TE14097A.

The applicant requests authorization to conduct surveys, population monitoring, and ecological studies throughout the eastern United States for Indiana bat and gray bat.

Applicant: Richard McWhite, Arnold Air Force Base, Tennessee, TE34379.

The applicant requests authorization to conduct surveys, population monitoring, and ecological studies in Tennessee for Indiana bat and gray bat.

Applicant: Carl Dick, Western Kentucky University, Bowling Green, Kentucky, TE14102A.

The applicant requests authorization to conduct surveys, population monitoring, and ecological studies for seven bat species throughout their ranges within the continental United States.

Applicant: Susan Cameron, Asheville North Carolina, TE1349A.

The applicant requests authorization to survey and monitor Carolina northern flying squirrel (Glaucomys sabrinus coloratus), spruce fire moss spider (Microhexura montivaga), and bog turtle (Clemmys muhlenbergii) in North Carolina to develop recovery and management practices.

Applicant: Benjamin Laester, Whittier, North Carolina, TE121142.

The applicant requests renewed authorization to capture and handle the Carolina northern flying squirrel on Tribal lands of the Eastern Band of the Cherokee Indian Nation, North Carolina.

Applicant: Florida Cooperative Fish and Wildlife Research Unit, Gainesville, Florida TE13084A.

The applicant requests authorization to survey and monitor salt marsh vole (Microtus pennsylvanicaus dukecampbelli) in Dixie and Levy Counties, Florida.

Applicant: Donna Oddy, Kennedy Space Center, Florida TE089075.

The applicant requests authorization to survey, monitor, and translocate the following subspecies of beach mouse within Florida: Alabama (Peromyscus polionotus ammobates), Anastasia Island (P. p. phasma), Choctawhatchee (P. p. allophrys), Perdido Key (P. p. trissyllepsis,), St. Andrew (P. p. peninsularis), and southeastern (P. p. niveiventris).

Applicant: Trent Farris, Gulf Shores, Alabama, TE648562.

The applicant requests renewed authorization to conduct presence/absence surveys for the following beach mouse subspecies in Alabama and Florida: Alabama, Choctawhatchee, Perdido Key, and St. Andrew.

Applicant: Jack Stout, University of Central Florida, Orlando, Florida, TE105642.

The applicant requests renewed authorization to capture, examine, collect tissue samples, and release the Anastasia Island and southeastern beach mouse in Florida.

Applicant: Jacqueline Isaacs, Gulf Shores, Alabama, TE206903.

The applicant requests authorization to survey, monitor, and temporarily hold in captivity Alabama beach mouse in Alabama. The applicant also requests authorization to survey, monitor, relocate, transport, rescue, salvage, collect tissues, and euthanize (under specific conditions) the following sea turtle species: Kemp's Ridley (Lepidochelys kempii), hawksbill (Eretmochelys imbricata), leatherback (Dermochelys coriacea), green (Chelonia mydas), loggerhead (Caretta caretta), and olive ridley (Lepidochelys olivacea) in Alabama.

Applicant: Carl Couret, Fairhope, Alabama, TE14090A.

The applicant requests authorization to conduct presence/absence surveys, marking, salvage, ecological studies, and relocation activities in Alabama for Alabama beach mouse, Perdido Key beach mouse, Kemp's Ridley sea turtle, Alabama red-bellied turtle (Pseudemys alabamensis), Alabama sturgeon (Scaphirhynchus sutkusi), Alabama cave shrimp (palaemonias alabamae), and the Tulotoma snail (Tulotoma magnifica).

Applicant: Kathryn Craven, Savannah, Georgia, TE079976.

The applicant requests renewed authorization to take hatched/unhatched eggs from hatched nests in Georgia from the following sea turtle species: loggerhead sea turtle, green sea turtle, Kemp's Ridley sea turtle, leatherback, and hawksbill for the purpose of studying nesting success.

Applicant: Florida Fish and Wildlife Commission, Jacksonville, Florida, TE13079A.

The applicant requests authorization to euthanize (under specific conditions) the following species of sea turtles from Florida that are unlikely to survive or which would pose a risk of disease communication to other individuals: green, Kemp's Ridley, leatherback, and hawksbill.

Applicant: National Park Service, Buck Island Reef National Monument, Christiansted, Virgin Islands, TE222890.

The applicant requests renewed authorization to mark, tag, collect tissues from, and handle the following sea turtle species in Buck Island Reef National Monument, St. Croix, Virgin Islands: loggerhead, green, leatherback, and hawksbill.

Applicant: David Varricchio, University of Montana, Bozeman, Montana, TE220909.

The applicant requests authorization to collect egg fragments and other tissue recovered from American crocodile (Crocodylus acutus) nests in Dade and Monroe Counties, Florida.

Applicant: John Palis, Jonesboro, Illinois, TE80774.

The applicant requests renewed authorization to conduct presence/absence surveys for the reticulated flatwoods salamander (Ambystoma bishopi) and frosted flatwoods salamander (Ambystoma cingulatum) in South Carolina and Florida.

Applicant: University of Georgia, Aiken, South Carolina, TE237093.

The applicant requests authorization to conduct presence/absence surveys for the reticulated flatwoods salamander in Santa Rosa County, Florida.

Applicant: Conservation Fisheries Inc., Knoxville, Tennessee, TE11542.

The applicant requests renewed authorization to conduct presence/absence surveys in Tennessee and Georgia and temporarily house 15 fish species in Tennessee.

Applicant: White Oak Conservation Center, Yulee, Florida, TE105674.

The applicant requests renewed authorization to conduct captive breeding and reintroduction into the wild for Mississippi Sandhill Crane (Grus canadensis pulla). Captive breeding will occur in Yulee, Florida, and reintroduction will occur at Mississippi Sandhill Crane National Wildlife Refuge, Gautier, Mississippi.

Applicant: Moody Air Force Base, Lowndes County, Georgia, TE206768.

The applicant requests authorization to take via harassment of Wood Storks (Mycteria americana) as necessary, to avoid hazards from aircraft operations at Moody Air Force Base, Lowndes County, Georgia.

Applicant: Fort Polk, Fort Polk, Louisiana, TE041314.

The applicant requests authorization to trap, band, translocate, and install artificial nesting cavities for Red-cockaded Woodpeckers (Picoides borealis) on Fort Polk Army Base, Fort Polk, Louisiana.

Applicant: U.S. Forest Service, Daniel Boone National Forest, Winchester, Kentucky, TE25674.

The applicant requests renewed authorization to trap, band, translocate, and install artificial nesting cavities for Red-cockaded Woodpeckers on the Daniel Boone National Forest, Kentucky.

Applicant: Florida Department of Agriculture and Consumer Services, Gainesville, Florida, TE87194.

The applicant requests renewed authorization to trap, band, translocate, and install artificial nesting cavities for Red-cockaded Woodpeckers in Florida.

Applicant: J.W. Jones Ecological Research Center, Newton, Georgia, TE66980.

The applicant requests renewed authorization to trap, band, translocate, and install artificial nesting cavities for Red-cockaded Woodpeckers in Baker County, Georgia.

Applicant: Robert Montgomery, Nags Head, North Carolina, TE55241.

The applicant requests renewed authorization to trap, band, translocate, and install artificial nesting cavities for Red-cockaded Woodpeckers at Dare Bombing Range, North Carolina.

Applicant: U.S. Army, Fort Gordon, Georgia, TE146376.

The applicant requests renewed authorization to trap, band, translocate, and install artificial nesting cavities for Red-cockaded Woodpeckers at Fort Gordon, Georgia.

Applicant: Breedlove, Dennis and Associates, Winter Park, Florida, TE14105A.

The applicant requests renewed authorization to electronically monitor nests of Red-cockaded Woodpeckers in Orange County, Florida.

Applicant: Gary O'Neill, Warren, Arkansas, TE132409.

The applicant requests renewed authorization to electronically monitor nests of Red-cockaded Woodpeckers in Potlatch Forest Holdings properties in Bradley, Calhoun, Drew and Cleveland Counties, Arkansas.

Applicant: Pennington and Associates, Inc., Cookeville, Tennessee, TE812344.

The applicant requests renewed authorization to conduct presence/absence surveys and relocation activities for the Nashville crayfish (Orconectes shoupi) and Anthony's river snail (Athernia anthonyi) in Davidson, Williamson, and Marion Counties, Tennessee and Jackson and Limestone Counties, Alabama.

Applicant: James Off, URS Corp., Franklin, Tennessee, TE84054.

The applicant requests renewed authorization to conduct presence/absence surveys and relocation activities for Nashville crayfish and Anthony's riversnail in Davidson and Williamson Counties, Tennessee, and Jackson County, Alabama.

Applicant: Environ International Corp., Brentwood, Tennessee, TE145561.

The applicant requests renewed authorization to conduct presence/absence surveys for Nashville crayfish in Davidson and Williamson Counties, Tennessee.

Applicant: Water Quality and Erosion Control of Tennessee, Nashville, Tennessee, TE237091.

The applicant requests renewed authorization to conduct presence/absence surveys and relocation activities for Nashville crayfish in Davidson and Williamson Counties, Tennessee.

Applicant: Symbiotics LLC, Portland, Oregon, TE220913.

The applicant requests authorization to conduct presence/absence surveys in the Ohio River, Union County, Kentucky, for fanshell, catspaw, pink mucket, ring pink, orangefoot pimpleback, rough pigtoe and fat pocketbook.

Applicant: U.S. Army Corps of Engineers, Memphis, Tennessee, TE61069.

The applicant requests renewed authorization to conduct presence/absence surveys in Tennessee, Illinois, Missouri, Kentucky, Mississippi, and Arkansas for pink mucket, ring pink, fat pocketbook, orangefoot pimpleback, turgid blossom (Epioblasma turgidula), and tubercled blossom (Epioblasma torulosa).

Applicant: R. Jason Dickey, Tallahassee, Florida, TE13895A.

The applicant requests authorization to conduct presence/absence surveys in Alabama, Florida, and Georgia for fat threeridge (Amblema neislerii), Gulf moccasinshell (Medionidus penicillatus), Ochlockonee moccasinshell (Medionidus simpsonianus), Chipola slabshell (Elliptio chipolaensis), purple bankclimber (Elliptoideus sloatianus), shinyrayed pocketbook (Hamotia (= Lampsillis) subangulata), and oval pigtoe (Pleurobema pyriforme).

Applicant: Stephen Golladay, Newton, Georgia, TE237544.

The applicant requests authorization to conduct presence/absence surveys in Georgia for Gulf moccasinshell, purple bankclimber, shinyrayed pocketbook, and oval pigtoe.

Applicant: Edwards-Pitman Environmental, Inc., Smyrna, Georgia, TE063179.

The applicant requests renewed authorization to conduct presence/absence surveys for freshwater mussels and fish in the State of Georgia. Translocations may be conducted under specific conditions.

Applicant: FTN Associates Ltd., Little Rock, Arkansas, TE139474.

The applicant requests renewed authorization to survey and monitor the American burying beetle at Fort Chaffee Maneuver Training Center, Crawford, Franklin, and Sebastian Counties, Alabama.

Applicant: John Harris, Arkansas State Highway and Transportation Department, Little Rock, Arkansas, TE079883.

The applicant requests renewed authorization to conduct presence/absence surveys for Louisiana black bear, two bat species, three fish species, one freshwater mussel species, two cave crayfish species, Magazine Mountain shagreen (Mesodon magazinensis), and American burying beetle throughout Arkansas.

Applicant: SWCA, Inc., Houston, Texas, TE220938.

The applicant requests authorization to conduct presence/absence surveys for Louisiana black bear (Ursus americanus luteolus) in Arkansas, Louisiana, and Mississippi, and multiple species of freshwater mussels, amphibians, reptiles, birds, and bats throughout Alabama, Arkansas, Florida, Georgia, Kentucky, Louisiana, Mississippi, North Carolina, South Carolina, and Tennessee.

Applicant: David Campbell, Tuscaloosa, Alabama TE223147.

The applicant requests authorization to conduct presence/absence surveys for multiple species of freshwater mussels, and terrestrial and aquatic snails, and to salvage shells of these species throughout the continental United States and Hawaii.

Applicant: Kentucky State Nature Preserves Commission, Frankfort, Kentucky, TE13852A.

The applicant requests authorization to conduct presence/absence surveys in Kentucky for 15 freshwater mussel species, 4 fish species, and 1 crustacean species.

Applicant: Eco-South, Inc., Covington, Georgia, TE810274.

The applicant requests renewed authorization to conduct presence/absence surveys throughout Georgia for 13 freshwater mussel species, 4 bat species and 7 fish species.

Applicant: Jason Throneberry, Little Rock, Arkansas, TE083014.

The applicant requests renewed authorization to conduct presence/absence surveys in Arkansas for 9 freshwater mussel species, 2 listed crustacean species, and 4 fish species.

Applicant: Columbus State University, Columbus, Georgia, TE49411.

The applicant requests renewed authorization to conduct presence/absence surveys in Georgia for 2 snail species and 17 fish species.

Applicant: Todd Levine, Murray State University, Murray, Kentucky, TE14110A.

The applicant requests authorization to conduct presence/absence surveys in Kentucky for 15 listed freshwater mussel species.

Applicant: Gerald Dinkins, Powell, Tennessee, TE69754.

The applicant requests renewed authorization to conduct presence/absence surveys in Florida, Louisiana, and Mississippi for 21 freshwater mussels and 4 fish species.

Applicant: Jeff Selby, Decatur, Alabama, TE-100626-7.

The applicant requests renewed authorization to conduct presence/absence surveys in Alabama for 39 freshwater mussel species, 1 fish species, and 3 snail species.

Applicant: Ecosystems Services LLP, Chicago, Illinois, TE-108506-2.

The applicant requests renewed authorization to conduct presence/absence surveys throughout the southeastern and midwestern United States for 69 freshwater mussel species and 34 snail species.

Dated: June 8, 2010.
Mark J. Musaus,
Acting Regional Director.

[FR Doc. 2010-15168 Filed 6-22-10; 8:45 am]

BILLING CODE 4310-55-P